DEPARTMENT OF HEALTH AND HUMAN SERVICES

National Institutes of Health

National Cancer Institute; Amended Notice of Meeting

Notice is hereby given of a change in the meeting of the National Cancer Institute Special Emphasis Panel, July 20, 2009, 8 a.m. to July 21, 2009, 8 p.m., Bethesda Marriott, 5151 Pooks Hill Road, Bethesda, MD 20814 which was published in the Federal Register on May 18, 2009, 74 FR 23193.

This amendment is to cancel NCI SEP: IRG Subcommittee H—Clinical Cooperative Group. This meeting is being held as a regular Initial Review Group meeting and not a Special Emphasis Panel. Please see FR page 24859. The meeting is closed to the public.

Dated: June 10, 2009.
Jennifer Spaeth,
Director, Office of Federal Advisory Committee Policy.

[FR Doc. E9-14523 Filed 6-19-09; 8:45 am]

BILLING CODE 4140-01-P